DEPARTMENT OF ENERGY

Federal Energy Regulatory Commission

[Project No. 14795-002]

Shell Energy North America (US), L. P.; Notice of Teleconference

a. Project Name and Number: Pearl Hill Hydro Battery Pumped Storage Project No. 14795-002.

b. Applicant: Shell Energy North America (US), L. P.

c. Date and Time of Teleconference: December 17, 2019 at 2:00 p.m. EST.

d. FERC Contact: Suzanne Novak, (202) 502-6665, suzanne.novak@ferc.gov.

e. Purpose of Meeting: Commission staff will hold a teleconference with staff from the Washington State Historic Preservation Office (SHPO), the Advisory Council on Historic Preservation (Advisory Council), the Confederated Tribes of the Colville Reservation (CTCR), Shell Energy North America (US), L. P. (Shell Energy), and the U.S. Army Corps of Engineers, Seattle Division, (Corps) to discuss the Programmatic Agreement for the licensing of the Pearl Hill Hydro Battery Pumped Storage Hydroelectric Project.

f. All local, state, and federal agencies, Indian tribes, and other interested parties are invited to attend by phone; however, participation will be limited to representation of the Washington SHPO, the Advisory Council, CTCR, Shell Energy, the Corps, and the Commission's representatives. Please call or email Suzanne Novak at (202) 502-6665 or suzanne.novak@ferc.gov by December 10, 2019 at 4:30 EST, to RSVP and to receive specific instructions on how to participate.

Dated: November 20, 2019.
Nathaniel J. Davis, Sr.,
Deputy Secretary.

[FR Doc. 2019-25626 Filed 11-25-19; 8:45 am]

BILLING CODE 6717-01-P